SOCIAL SECURITY ADMINISTRATION

[Docket No. SSA-2007-0080]

Supplementary Agreement on Social Security Between the United States and Sweden; Entry Into Force

AGENCY: Social Security Administration (SSA).

ACTION: Notice.

SUMMARY: The Commissioner of Social Security gives notice that on November 1, 2007, a supplementary agreement will enter into force which amends the Social Security agreement between the United States (U.S.) and Sweden that has been in effect since January 1, 1987. The supplementary agreement, which was signed on June 24, 2004, was concluded pursuant to section 233 of the Social Security Act.

When the original agreement was concluded, Sweden had a two-tier Social Security system that consisted of an earnings-related, defined-benefit program and a residence-based, flat-rate benefit program. Recent Swedish legislation restructured the system. People born after 1953 are now covered by a program consisting of three components. The new Swedish system includes an earnings-related, defined-contribution benefit program administered by the government, a program of individual investment accounts, and a guaranteed minimum pension payable if income-based pensions and certain other income fall below specified levels.

The primary purpose of the supplementary agreement is to conform the Swedish benefit provisions of the original agreement to Sweden's new Social Security system. The supplementary agreement also changes the provision that authorizes SSA to take into account Swedish periods of coverage in determining eligibility for U.S. Totalization benefits so that it refers to periods under the new Swedish pension program rather than the old program. The new Swedish Social Security law allows people to qualify for most benefits with very little coverage credit. It is not expected, therefore, that many people will need to have their U.S. and Swedish coverage credits totalized to become eligible for most Swedish benefits.

The supplementary agreement provides that U.S. Social Security benefits will not be counted in applying pension offsets that normally reduce the amount of Swedish disability benefits. Thus, the supplementary agreement will provide U.S. workers enhanced disability benefit protection under the Swedish system at little, if any, additional cost to the U.S. Social Security system.

In addition to the changes in the U.S. and Swedish benefit provisions, the supplementary agreement updates several other provisions to take account of amendments to both U.S. and Swedish laws and to conform the wording of the agreement to the more recent Totalization agreements concluded by the United States. Other changes in the agreement are merely clarifications to reflect the manner in which the agreement is currently applied.

Individuals who wish to obtain copies of the supplementary agreement or want general information about its provisions may visit the Social Security Administration's Web site at http://www.socialsecurity.gov/international or may write to the Social Security Administration, Office of International Programs, Post Office Box 17741, Baltimore, Maryland 21235.

Dated: October 29, 2007.
Michael J. Astrue,
Commissioner of Social Security.

[FR Doc. E7-21585 Filed 11-1-07; 8:45 am]

BILLING CODE 4191-02-P